CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed renewal of the Learn and Serve Progress Report. The Learn and Serve grantees submit this progress report via eGrants. Copies of the information collection request can be obtained by contacting the office listed in the addresses section of this Notice.

DATES: Written comments must be submitted to the individual and office listed in the ADDRESSES section by April 29, 2013.

ADDRESSES: You may submit comments, identified by the title of the information collection activity, by any of the following methods:

(1) By mail sent to: Corporation for National and Community Service, Office of Field Liaison/LSA. Attention: Sylvie Mortimer, Field Liaison Specialist; 1201 New York Avenue NW., Washington, DC, 20525.

(2) By hand delivery or by courier to the CNCS mailroom at Room 8100 at the mail address given in paragraph (1) above, between 9:00 a.m. and 4:00 p.m. Eastern Time, Monday through Friday, except Federal holidays.

(3) By fax to: (202) 606-3475, Attention: Sylvie Mortimer, Field Liaison Specialist.

(4) Electronically through www.regulations.gov. Individuals who use a telecommunications device for the deaf (TTY-TDD) may call 1-800-833-3722 between 8:00 a.m. and 8:00 p.m. Eastern Time, Monday through Friday.

FOR FURTHER INFORMATION CONTACT: Sylvie Mortimer, (202) 606-6749 number, or by email at smortimer@cns.gov.

SUPPLEMENTARY INFORMATION: CNCS is particularly interested in comments that:

• Evaluate whether the proposed collection of information is necessary for the proper performance of the functions of CNCS, including whether the information will have practical utility.

• Evaluate the accuracy of the agency's estimate of the burden of the proposed collection of information, including the validity of the methodology and assumptions used.

• Enhance the quality, utility, and clarity of the information to be collected.

• Minimize the burden of the collection of information on those who are expected to respond, including the use of appropriate automated, electronic, mechanical, or other technological collection techniques or other forms of information technology (e.g., permitting electronic submissions of responses).

Background: The Learn and Serve grantees submit this progress report via eGrants. The Learn and Serve program staff will use the information to monitor progress, and to respond to requests from Congress and other stakeholders.

Current Action: CNCS seeks to renew the current information collection. The information collected in the Grantee Progress Report may be used by the Corporation's Office of Public Affairs to promote service. Learn and Serve program staff will use the information to monitor progress, and to respond to requests from Congress and other stakeholders. Some information provided in the Progress Report may be used by the Corporation's Office of Public Affairs to promote service. Program staff also use the information to identify trends and issues that may lead to changes in policies and procedures, allocation of training and technical assistance, or opportunities for peer learning.

The information collection will otherwise be used in the same manner as the existing application. CNCS also seeks to continue using the current application until the revised application is approved by OMB. The current application is due to expire on 7/31/2013.

Type of Review: Renewal.

Agency: Corporation for National and Community Service.

Title: Learn and Serve Progress Report Information Collection.

OMB Number: 3045-0089.

Agency Number: None.

Affected Public: The public affected are the beneficiaries of the Learn and Serve grants and their broad communities.

Total Respondents: Twenty-three grantees will respond to this information request.

Frequency: One final progress report for each grantee.

Average Time per Response: Averages 30 minutes.

Estimated Total Burden Hours: 11.5 hours.

Total Burden Cost (capital/startup): None.

Total Burden Cost (operating/maintenance): None.

Comments submitted in response to this notice will be summarized and/or included in the request for Office of Management and Budget approval of the information collection request; they will also become a matter of public record.

Dated: February 19, 2013.
Mike Berning,
Director, Office of Field Liaison.

[FR Doc. 2013-04609 Filed 2-27-13; 8:45 am]

BILLING CODE 6050-$$-P